DEPARTMENT OF TRANSPORTATION

National Highway Traffic Safety Administration

Reports, Forms and Recordkeeping Requirements, Agency Information Collection Activity Under OMB Review

AGENCY: National Highway Traffic Safety Administration, DOT.

ACTION: Notice.

SUMMARY: In compliance with the Paperwork Reduction Act of 1995 (44 U.S.C. 3501 et seq.), this notice announces that an Information Collection Request (ICR) in support of the New Car Assessment Program has been forwarded to the Office of Management and Budget (OMB) for review and comment. The ICR describes the nature of the information collections and their expected burden. The Federal Register Notice with a 60-day comment period was published on March 9, 2009 74 FR 44, pages 10122 and 10123, or U.S. DOT Docket Number NHTSA-2009-0032.

DATES: Comments must be submitted on or before June 8, 2009.

FOR FURTHER INFORMATION CONTACT: Complete copies of each request for collection of information may be obtained at no charge from Johanna Lowrie, U.S. Department of Transportation, NHTSA, Room W43-410, 1200 New Jersey Ave., SE., Washington, DC 20590. Ms. Lowrie's telephone number is (202) 366-5269. Please identify the relevant collection of information by referring to its OMB Control Number.

SUPPLEMENTARY INFORMATION:

National Highway Traffic Safety Administration

Title: Vehicle Information for the General Public.

OMB Number: 2127-0629.

Type of Request: Regular.

Abstract: NHTSA's mission is to save lives, prevent injury, and reduce motor vehicle crashes. Providing consumer information on vehicle safety is an important means of improving vehicle safety through market forces. NHTSA provides consumers with vehicle safety information such as front and side crash results, rollover propensity, and the availability of a wide array of safety features provided on each vehicle model. NHTSA also uses this safety feature information when responding to public inquiries and analyzing rulemaking petitions which ask the agency to mandate certain safety features.

The agency has attempted to coordinate and reduce the reporting burden associated with this information collection. Another information collection obtains data related to motor vehicle compliance with the agency's Federal motor vehicle safety standards. Although the consumer information collection data is distinct and unique from the compliance data, respondents to both collections are the same. Consequently, the consumer information collection is closely coordinated with the compliance collection to enable responders to assemble the data most efficiently. The burden is further made easier by sending electronic files to the respondents in which the data is entered and electronically returned to the agency.

The consumer information collected is used on the agency's http://www.safercar.gov Web site, in the “Buying a Safer Car” and “Buying a Safer Car for Child Passengers” brochures, in other consumer publications, as well as for internal agency analyses and responses to consumer inquiries.

Affected Public: Manufacturers that sell motor vehicles in the United States under 10,000 lbs of Gross Vehicle Weight Rating.

Estimated Total Annual Burden: 924 hours.

ADDRESSES: Send comments, within 30 days, to the Office of Information and Regulatory Affairs, Office of Management and Budget, 725-17th Street, NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A Comment to OMB is most effective if OMB receives it within 30 days of publication.

Issued in Washington, DC, on May 1, 2009.
Stephen R. Kratzke,
Associate Administrator for Rulemaking.

[FR Doc. E9-10596 Filed 5-6-09; 8:45 am]

BILLING CODE P